DEPARTMENT OF LABOR

Occupational Safety and Health Administration

[Docket No. NRTL-2-90]

SGS U.S. Testing Company, Inc.; Expansion of Recognition

AGENCY: Occupational Safety and Health Administration (OSHA), Labor.

ACTION: Notice.

SUMMARY: This notice announces the Agency's final decision on the application of SGS U.S. Testing Company, Inc. (SGSUS), for expansion of its recognition as a Nationally Recognized Testing Laboratory (NRTL) under 29 CFR 1910.7.

EFFECTIVE DATE: This recognition becomes effective on May 12, 2000 and, unless modified in accordance with 29 CFR 1910.7, continues in effect while SGSUS remains recognized by OSHA as an NRTL.

FOR FURTHER INFORMATION CONTACT: Bernard Pasquet, Office of Technical Programs and Coordination Activities, NRTL Program, Occupational Safety and Health Administration, U.S. Department of Labor, 200 Constitution Avenue NW, Room N3653, Washington, DC 20210, or phone (202) 693-2110.

SUPPLEMENTARY INFORMATION:

Notice of Final Decision

The Occupational Safety and Health Administration (OSHA) hereby gives notice of the expansion of recognition of SGS U.S. Testing Company, Inc. (SGSUS), as a Nationally Recognized Testing Laboratory (NRTL). The SGSUS expansion covers the use of the additional test standards and the additional programs, listed below.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

SGSUS submitted an application, dated August 9, 1999 (see Exhibit 14), to expand its recognition as an NRTL for the four (4) additional test standards listed below. The NRTL also included a request for use of the two (2) additional supplemental programs listed below. In processing the application, OSHA performed an on-site review of the SGSUS facility in Fairfield, New Jersey, on June 7-8, 1999. In the final report of the on-site review report (see Exhibit 15), the assessor recommended the expansion for the additional test standards and additional programs.

OSHA published the required notice in the Federal Register (65 FR 2438, 01/14/2000) to announce the SGSUS expansion application. The notice included a preliminary finding that SGSUS could meet the requirements for expansion of its recognition, and OSHA invited public comment on the application by March 14, 2000. OSHA received no comments concerning this application.

The most recent prior notices published by OSHA for the SGSUS recognition covered the renewal and expansion of its recognition, which OSHA announced on May 19, 1998 (63 FR 27598), and granted on August 28, 1998 (63 FR 46084). OSHA published a correction to this last notice on December 17, 1998 (63 FR 69683).

You may obtain or review copies of all public documents pertaining to the application by contacting the Docket Office, Occupational Safety and Health Administration, U.S. Department of Labor, 200 Constitution Avenue NW, Room N2625, Washington, DC 20210, telephone: (202) 693-2350. You should refer to Docket No. NRTL-2-90, the permanent records of public information on the SGSUS recognition.

The current addresses of the facilities (sites) that OSHA recognizes for SGSUS are:

SGS U.S. Testing Company Inc., 291 Fairfield Avenue, Fairfield, New Jersey 07004

SGS U.S. Testing Company Inc., 5555 Telegraph Road, Los Angeles, California 90040

Final Decision and Order

The NRTL Program staff has examined the application, the on-site review report, and other pertinent information. Based upon this examination and the staff's recommendation, OSHA finds that SGS U.S. Testing Company Inc., has met the requirements of 29 CFR 1910.7 for expansion of its recognition to include the additional test standards, listed below, subject to the limitations and conditions listed below. Pursuant to the authority in 29 CFR 1910.7, OSHA hereby expands the recognition of SGSUS, subject to these limitations and conditions.

Limitations

OSHA hereby expands the recognition of SGSUS for testing and certification of products to demonstrate conformance to the four (4) additional test standards listed below. OSHA has determined that each test standard meets the requirements for an appropriate test standard, within the meaning of 29 CFR 1910.7(c).

The Agency's recognition of SGSUS, or any NRTL, for a particular test standard is always limited to equipment or materials (products) for which OSHA standards require third party testing and certification before use in the workplace. As a result, OSHA's recognition of an NRTL for a test standard excludes any product(s), falling within the scope of the test standard, for which OSHA has no such requirements. In addition, testing or certification to any of the standards listed below is limited to those sites that have the proper capability and programs. In fact, this limitation applies to all test standards for which SGSUS is currently recognized. This treatment is consistent with the recognition that OSHA has granted to other NRTLs that operate or utilize multiple sites.

ANSI/UL 696 Electric Toys

ANSI/UL 697 Toy Transformers

ANSI/UL 1310 Class 2 Power Units

ANSI/UL 6500 Audio/Visual and Musical Instrument Apparatus for Household, Commercial, and Similar General Use

The designations and titles of the above test standards were current at the time of the preparation of the preliminary notice, which announced the SGSUS application for expansion.

Programs and Procedures

OSHA is granting the request by SGSUS to use the two (2) supplemental programs, listed below, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. The on-site review report indicates that SGSUS meets the criteria for use of the following additional supplemental programs:

Program 3: Acceptance of product evaluations from independent organizations, other than NRTLs.

Program 9: Acceptance of services other than testing or evaluation performed by subcontractors or agents.

OSHA developed the program descriptions to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

OSHA previously granted a request by SGSUS to use two other supplemental programs but included certain conditions on their use. Since these conditions are still in effect and apply to the use of Program 3, we have listed them below. These conditions apply solely to the SGSUS operations as an NRTL and solely to those products that it certifies for purposes of enabling employers to meet OSHA product approval requirements. The conditions are in addition to the requirements detailed in the previously cited March 9, 1995 Federal Register. Also, they are in addition to the other conditions listed below, which OSHA normally imposes in its recognition notices. The NRTL Program staff includes these type of additional conditions on OSHA's informational web page for the NRTL. When the staff determines that a particular condition is no longer in effect, the staff removes it from the web page and notifies the NRTL accordingly. OSHA has no requirement to give public notice when removing such a condition.

Conditions

SGS U.S. Testing Company, Inc., must also abide by the following conditions of the recognition, in addition to those already required by 29 CFR 1910.7:

SGS U.S. Testing Company, Inc., Fairfield, New Jersey, will review and approve the qualifications of all external organizations prior to SGS U.S. Testing Company, Inc., accepting test data from these organizations.

SGS U.S. Testing Company, Inc., Fairfield, New Jersey, will review and approve the qualifications of all external organizations prior to SGS U.S. Testing Company, Inc., using a site of any of these organizations for witnessed test data.

OSHA must be allowed access to the SGSUS facilities and records for purposes of ascertaining continuing compliance with the terms of its recognition and to investigate as OSHA deems necessary;

If SGSUS has reason to doubt the efficacy of any test standard it is using under this program, it must promptly inform the organization that developed the test standard of this fact and provide that organization with appropriate relevant information upon which its concerns are based;

SGSUS must not engage in or permit others to engage in any misrepresentation of the scope or conditions of its recognition. As part of this condition, SGSUS agrees that it will allow no representation that it is either a recognized or an accredited Nationally Recognized Testing Laboratory (NRTL) without clearly indicating the specific equipment or material to which this recognition is tied, or that its recognition is limited to certain products;

SGSUS must inform OSHA as soon as possible, in writing, of any change of ownership, facilities, or key personnel, and of any major changes in its operations as an NRTL, including details;

SGSUS will continue to meet all the terms of its recognition and will always comply with all OSHA policies pertaining to this recognition;

SGSUS will continue to meet the requirements for recognition in all areas where it has been recognized; and

SGSUS will always cooperate with OSHA to assure compliance with the spirit as well as the letter of its recognition and 29 CFR 1910.7.

Signed at Washington, DC this 2nd day of May 2000.
Charles N. Jeffress,
Assistant Secretary.

[FR Doc. 00-11979 Filed 5-11-00; 8:45 am]

BILLING CODE 4510-26-P